DEPARTMENT OF DEFENSE

Office of Secretary

[DOD-2006-OS-0228]

Privacy Act of 1974; System of Records

AGENCY: Office of the Inspector General, DoD.

ACTION: Notice to add a systems of records.

SUMMARY: The Office of the Inspector General (OIG) proposes to add a system of records to its inventory of record systems subject to the Privacy Act of 1974 (5 U.S.C. 552a), as amended.

DATES: The proposed action will be effective on February 7, 2007 unless comments are received that would result in a contrary determination.

ADDRESSES: Send comments to Chief, FOIA/PA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General (OIG) systems of records notices subject to the Privacy Act of 1974, (5 U.S.C. 552a), as amended, have been published in the Federal Register and are available from the address above. The proposed systems reports, as required by 5 U.S.C. 552a(r) of the Privacy Act, were submitted on December 28, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: December 29, 2006.
L.M. Bynum,
Alternate OSD Federal Register Liaison Officer, Department of Defense.

CIG-25

System name:

Alternate Worksite Records

System location:

Primary location: Human Capital Advisory Service (Workforce Relations Division), Department of Defense Office of the Inspector General, 400 Army Navy Drive, Suite 115, Arlington, VA 22202-4704.

Secondary locations:

Defense Criminal Investigative Service Field Offices, Resident Agencies, and Posts of Duty. Official mailing addresses are published as an appendix to the OIG's compilation of systems of records notices.

Categories of individuals covered by the system:

Civilian employees who participate in the Telework program operated by OIG.

Categories of records in the system:

Records in the system include participant name; position title; series and grade, performance evaluation rating; official duty station address and telephone numbers; type of telework; date telework agreement received and approved; alternative worksite address and telephone numbers; telework eligibility forms; telework agreement forms; telework home and security checklists; whether government equipment is assigned; telework arrangement checkout checklists; telework centers reimbursement sheets; and regular and recurring telework memorandums; and any other miscellaneous documents supporting telework.

Authority for maintenance of the system:

Public Law 106-346, Section 359 of October 23, 2000; Under Secretary of Defense (Personnel and Readiness) Memorandum dated October 22, 2001, “Department of Defense Telework Policy and Guide for Civilian Employees,” and DoD Directive 1035.1 Telework Policy for Department of Defense.

Purpose(s):

Records are used by supervisor and program coordinators for purposes of managing, evaluating, and reporting OIG telework program activity.

Portions of the files may be used by Information Systems Directorate for determining equipment and software needs; for ensuring appropriate technical safeguards are in use at alternative work sites; and for evaluating and mitigating vulnerabilities associated with connecting to OIG computer systems from remote locations and to validate and reimburse participants for costs associated with telephone use.

Routine uses of records maintained in the system, including categories of users and the purpose of such uses:

In addition to those disclosures generally permitted under 5 U.S.C. 552a(b) of the Privacy Act, these records or information contained therein may specifically be disclosed outside the DoD as a routine use pursuant to 5 U.S.C. 552(b)(3) as follows:

To the Department of Labor when an employee is injured while working at the alternative worksite. The alternative worksite address, alternative worksite telephone number and home security and safety checklist may be disclosed.

The DoD Blanket Routine Uses set forth at the beginning of OIG's compilation of systems of records notices apply to this system.

Policies and practices for storing, retrieving, accessing, retaining, and disposing of records in the system:

Storage:

Paper records and electronic storage media

Retrievability:

Records are retrieved by name.

Safeguards:

Records are maintained in areas accessible only to DoD OIG personnel and is limited to those who require the records in the performance of their official duties. Paper Records are secured in locked cabinets during non-duty hours and access to electronic records is restricted by the use of passwords.

Retention and disposal:

Records are destroyed (shredded) within 1 year after employee's participation in the program ends.

System manager(s) and address:

Assistant Director, Human Capital Advisory Service (Workforce Relations), 400 Army Navy Drive, Suite 115, Arlington, VA 22202-4704.

Notification procedures:

Individuals seeking to determine whether records about themselves is contained in this system of records should address written inquiries to the Freedom of Information Act Requester Service Center/Privacy Act Office, Department of Defense, Office of the Inspector General, 400 Army Navy Dr., Arlington, VA 22202-4704.

The request should contain the individual's full name, address, and telephone number. These items are necessary for the retrieval of information. Requests submitted on behalf of other persons must include their written authorization.

Record access procedures:

Individuals seeking access to records about themselves contained in this system of records should address written inquiries to the Freedom of Information Act Requester Service Center/Privacy Act Office, Department of Defense, Office of the Inspector General, 400 Army Navy Dr., Arlington, VA 22202-4704.

The request should contain the individual's full name, address, and telephone number. These items are necessary for the retrieval of information. Requests submitted on behalf of other persons must include their written authorization.

Contesting record procedures:

The OIG's rules for accessing records and for contesting contents and appealing initial agency determinations are published in 32 CFR part 312 or may be obtained from the system manager.

Record source categories:

By participants and supervisors.

Exemptions claimed for the system:

None.

[FR Doc. E7-8 Filed 1-5-07; 8:45 am]

BILLING CODE 5001-06-P